DEPARTMENT OF THE INTERIOR

National Park Service

[NPS-PWR-PWRO-15430; PX.P0131800B.00.1]

Notice of Availability of Record of Decision for Merced River Comprehensive Management Plan, Yosemite National Park, California

AGENCY: National Park Service, Interior.

ACTION: Notice of Availability of Record of Decision.

SUMMARY: Pursuant to § 102(2)(C) of the National Environmental Policy Act of 1969 (Pub. L. 91-190, as amended) and the regulations promulgated by the Council on Environmental Quality (40 CFR 1505.2), the Department of the Interior, National Park Service (NPS), has prepared and approved a Record of Decision for the Final Environmental Impact Statement (Final EIS) for the Merced River Comprehensive Management Plan. Approval of the Merced River Comprehensive Management Plan culminates an extensive conservation planning and environmental impact analysis effort which began over 15 years ago. The requisite no-action “wait period” was initiated on February 18, 2014, with the Environmental Protection Agency's Federal Register notice of the filing of the Final EIS.

Decision: The NPS has selected Alternative 5 (identified as both “agency preferred” and “environmentally preferred” in the Final EIS) for implementation as the approved Merced River Comprehensive Management Plan. Under the selected alternative, peak visitation could reach levels experienced in recent years—approximately 20,100 people per day in East Yosemite Valley. West Yosemite Valley will retain its overall natural character, with limited facilities and visitor services provided. Improvements to river access in the Valley, coupled with meadow enhancements and extensive riverbank restoration (189 acres of meadow and riparian habitat will be restored), will result in substantially improved visitor experiences. Visitors to Wawona will continue to enjoy the historic hotel and facilities; recreational options in this area will include tennis and golf, hiking, picnicking, horseback riding, and boating on the South Fork of the Merced River. The El Portal Administrative Site will continue to serve as a hub for park operations, and remote parking to reduce summer traffic congestion will be provided.

Selected key components of the approved plan are as follows: (1) Provide for 72 campsites at Upper and Lower River Campgrounds and 482 lodging units at Curry Village; (2) increase parking at El Portal Remote Parking Area to 300 spaces and reduce parking at Yosemite Village Day-use Parking Area to 750 spaces; (3) provide for raft and bicycle rentals at locations outside the river corridor; (4) retain Sugar Pine Bridge and remove Residence One (the Superintendent's House) through relocation or demolition; (5) adverse effects to cultural resources will be ameliorated according to a Programmatic Agreement executed with the State Historic Preservation Officer; and (6) undertake a rigorous adaptive management program of ecological restoration and monitoring actions in order to improve hydrologic flows, water infiltration, and reduce erosion.

Five other alternatives were evaluated, the full range of foreseeable environmental consequences was assessed, and appropriate mitigation measures were identified.

Interested parties desiring to review the Record of Decision may obtain a copy by contacting the Superintendent, Attn: Division of Project Management, Yosemite National Park, P.O. Box 700-W, 5083 Foresta Road, El Portal, CA 95318 or via telephone request at (209) 379-1202.

Dated: March 31, 2014.
Christine S. Lehnertz,
Regional Director, Pacific West Region.

[FR Doc. 2014-10367 Filed 5-5-14; 8:45 am]

BILLING CODE 4310-FF-P